DEPARTMENT OF COMMERCE

National Oceanic and Atmospheric Administration

Agency Information Collection Activities; Submission to the Office of Management and Budget for Review and Approval; Comment Request; Southeast Region Vessel and Gear Identification Requirements

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on February 19, 2021, (86 FR 10250) during a 60-day comment period. This notice allows for an additional 30 days for public comments.

Agency: National Marine Fisheries Service (NMFS), National Oceanic and Atmospheric Administration, Commerce.

Title: Southeast Region Vessel and Gear Identification Requirements.

OMB Control Number: 0648-0358.

Form Number(s): None.

Type of Request: Regular submission. Extension of a current information collection.

Estimated Number of Respondents: 10,031.

Estimated Time per Response: Vessel marking: 75 minutes. Gear marking: aquacultured live rocks, 10 seconds each; golden crab traps, 2 minutes each; spiny lobster traps, 7 minutes each; sea bass pots, 16 minutes each; and Spanish mackerel gillnets, 20 minutes each; and buoy gear, 10 minutes each.

Estimated Total Annual Burden Hours: 40,335.

Needs and Uses: The NMFS Southeast Region manages the U.S. fisheries in the exclusive economic zone of the U.S. Caribbean, Gulf of Mexico, and South Atlantic regions under multiple fishery management plans (FMPs). The regional fishery management councils and NMFS prepared the FMPs pursuant to the Magnuson-Stevens Fishery Conservation and Management Act (Magnuson-Stevens Act). NMFS implements the regulations for the FMPs that are located at 50 CFR part 622.

The recordkeeping and reporting regulations located at 50 CFR part 622 form the basis for the information collection requirements that are currently approved under OMB Control Number 0648-0358. NMFS proposes to extend to the information collections under 0648-0358 without change. Regulations at 50 CFR part 622 require that all federally permitted fishing vessels must be marked with the official identification number or some other form of identification. A vessel's official number, under most regulations, must be displayed on the port and starboard sides of the deckhouse or hull, and on the weather deck. In addition, regulations for certain fisheries also require the display of the assigned color code for the vessel. The official number and color code identify each vessel and should be visible at distance from the sea and in the air. These markings provide law enforcement personnel with a means to monitor fishing, at-sea processing, and other related activities, as well as to ascertain whether the vessel's observed activities are in accordance with those authorized for that vessel. The identifying official number is used by NMFS, the United States Coast Guard, and other marine agencies in issuing violations, prosecutions, and other enforcement actions. Vessels that are authorized for particular fisheries are readily identified, gear violations are more readily prosecuted, and this allows for more cost-effective enforcement.

In addition to vessel marking, requirements that fishing gear be marked are essential to facilitate enforcement. The ability to link fishing gear to the vessel owner is crucial to enforcement of regulations issued under the authority of the Magnuson-Stevens Act. The marking of fishing gear is also valuable in actions concerning damage, loss, and civil proceedings. The requirements imposed in the U.S. southeast region are for aquacultured live rock; golden crab traps; spiny lobster traps; black sea bass pots; Spanish mackerel gillnets; and buoy gear.

Affected Public: Business or other for-profit organizations, individuals or households.

Frequency: On occasion or as needed.

Respondent's Obligation: Mandatory.

Legal Authority: 16 U.S.C. 1801 et seq.

This information collection request may be viewed at www.reginfo.gov. Follow the instructions to view the Department of Commerce collections currently under review by OMB.

Submit written comments and recommendations for the proposed information collection within 30 days of the publication of this notice on the following website www.reginfo.gov/public/do/PRAMain. Find this particular information collection by selecting “Currently under 30-day Review—Open for Public Comments,” or by using the search function and entering either the title of the collection or the OMB Control Number 0648-0358.

Sheleen Dumas,
Department PRA Clearance Officer, Office of the Chief Information Officer, Commerce Department.

[FR Doc. 2021-15559 Filed 7-21-21; 8:45 am]

BILLING CODE 3510-22-P